DEPARTMENT OF AGRICULTURE

Forest Service

Monticello and Blanding Municipal Watershed Improvement Projects Manti-La Sal National Forest, San Juan County, UT

AGENCY: Forest Service, USDA.

ACTION: Notice of intent to prepare Environmental Impact Statement.

SUMMARY: The Forest Service will prepare an Environmental Impact Statement (EIS) to document the analysis and disclose the environmental impacts of proposed actions to:

(1) Amend existing special use permits for the Monticello City Secondary and Culinary Water Systems to allow reconstruction of the collection and conveyance (pipeline) system (including clearing of vegetation and ground disturbance for construction equipment access along the pipeline and collection areas) to allow them to repair, replace, and relocate the system to correct sources of water loss and quality degradation in the system.

(Authority: Federal Land Policy and Management Act (FLMP) of 1976 (P.L. 94-579).)

(2) In cooperation with San Juan County, improve approximately 16 miles of Forest Road (FR) 50079 to provide improved and safer access for public use and management of the area and to provide a passable road for equipment needed for the reconstruction, care, and maintenance of municipal water systems and for implementation of proposed vegetation treatments.

(3) Implement harvest treatments on approximately 2,000 acres of spruce, spruce-fir, and aspen forest to develop a more diverse, open ecosystem. Proposed harvest methods are approximately 65% helicopter, 32% tractor and tractor-forwarder, and 3% cable. Allow construction and use of approximately ½ mile of temporary road and clearing of two miles of forwarder skid trail needed to implement proposed vegetation treatments.

The Monticello and Blanding Municipal Watershed Improvement Projects area includes portions of the North Creek, Bankhead Creek, Pole Creek, South Creek, Indian Creek, and Johnson Creek drainages in the Abajo Mountains and some adjacent area (Spring Creek) that has moderate levels of spruce beetle infestation with potential to contribute to insect population within the watersheds. These areas are managed as municipal watershed (MWS) under the Manti-La Sal National Forest Land and Resource Management Plan (USDA, 1986). They are the primary water source for the communities of Monticello, Blanding, and their surrounding area. It is a scenic area that includes the Horsehead (an Engelmann spruce and aspen stand in the form of a horse head that overlooks Monticello), which has special scenic, historic, and cultural significance to the individuals that live in the area.

Forest Road (FR) 50079 provides access through the area. It is the only direct mountain access between Monticello and Blanding and is important for tourism and day recreation use. It also provides access to private property within the Forest boundary. Much of the road is inadequate for use by larger vehicles, pickups with trailers, and some passenger cars due to tight curves/switchbacks and lack of turnouts. San Juan County has proposed that the road be improved to remove hazards, make public use easier, improve safety, reduce maintenance costs, and improve access for management of water systems.

The City of Monticello's water collection and pipeline system is in need of extensive repair and replacement due to leakage, contamination areas, and poor placement in relation to the road.

An outbreak of spruce bark beetle (Dendroctonus rufipennis) has recently occurred in and around the area. High levels of Engelmann spruce mortality within the area are imminent. Spruce beetle populations are expected to expand and may reach epidemic levels. If this occurs, most of the larger spruce component on the Abajo Mountains could be lost.

Because of the dependence of the local communities on this area and the importance of its resources, Monticello City, Blanding City, and San Juan County government officials have requested that we begin efforts to address the concerns identified. This proposal has been developed through consultation with them, Forest Service specialists, and other individuals and agencies with interest in the resources of the area. The Purpose and Need of the Proposed Action is as follows:

• Purpose #1: Cooperate with local government agencies to permit them to provide continued and more efficient collection and removal of water to the Monticello and Blanding municipal water systems for public uses.

• Purpose #2: Improve the transportation system to provide dependable public access on FR 50079, and to reduce sedimentation/erosion occurring on portions of FR 50079.

• Purpose #3: Move towards restoration of the ecological structure, function, processes, and composition of the spruce and aspen component of the landscape.

DATES: Written comments concerning the scope of the analysis described in this notice should be received on or before April 30, 2001. The date planned for release of the final EIS is November 2001.

ADDRESSES: Questions or written comments concerning the proposed action or requests for copies of the proposal should be addressed to Glenn P. Casamassa or Greg Montgomery at the following address: Moab/Monticello Ranger District, Manti-La Sal National Forest, P.O. Box 820, Monticello, Utah 84535, phone: 435-587-2041.

FOR FURTHER INFORMATION CONTACT: An Internet site is available that provides a detailed description of the purpose and need and proposed action. It includes maps and pictures of the area showing existing conditions, and copies of information available by mail. This information can be accessed on the Manti-La Sal National Forest Internet site

(http://www.fs.fed.us/r4/mantilasal/).

SUPPLEMENTARY INFORMATION: This EIS will tier to the final EIS for the Manti-La Sal National Forest Land and Resource Management Plan (Forest Plan). The Manti-La Sal Forest Plan provides the overall guidance (Goals, Objectives, Standards, and Management Area Direction) to achieve the Desired Future Condition for the area being analyzed, and contains specific management area prescriptions for the entire Forest.

Tentative or preliminary issues that have been identified include: Water resources; Visuals; Vegetation resources; Transportation; Recreation; Undeveloped Charter; Wildlife and Fisheries resources, Fuels and Fire Risk; Steep slopes; Economics; Cultural resources; and Air quality.

Other tentative or preliminary alternatives that have been identified include: (1) Implementation of only the water system construction/reconstruction portion of the proposed action; (2) Implementation of only the road improvement portion of the proposed action; (3) Implementation of the water system construction/reconstruction in conjunction with the road improvement portion of the proposed action; (4) Continuation of trapping and baiting treatments (timber harvest); and (5) No Action.

The Forest Service is seeking information and comments from Federal, State, and local agencies as well as individuals and organizations that may be interested in, or affected by the proposed action. The Forest Service invites written comments and suggestions on the issues related to the proposal and the area being analyzed. Information received will be used in preparation of the Draft EIS and Final EIS. For most effective use, comments should be submitted to the Forest Service within 30 days from the data of publication of this Notice in the Federal Register. Comments should include your name, address, telephone number, organization represented (if any), title of the proposal, and specific facts and supporting reasons for us to consider in the analysis. Names and comments received are public information and will be released to those who request them. This will include names, addresses, and any other personal information provided with the comments.

The proposed management activities would be administered by the Moab/Monticello Ranger District, Manti-La Sal National Forest, San Juan County, Utah.

Agency representatives and other interested people are invited to visit with Forest Service officials at any time during the EIS process. Two specific time periods are identified for the receipt of formal comments on the analysis. The two comment periods are: (1) During the scoping process, the next 30 days following publication of this notice in the Federal Register, and (2) During the formal review period of the Draft EIS.

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The Forest Supervisor for the Manti-La Sal National Forest, who is the responsible official for the EIS, will then make a decision regarding this proposal, after considering the comments, responses, and environmental consequences discussed in the Final Environmental Impact Statement, and applicable laws, regulations, and policies. The reasons for the decision will be documented in a Record of Decision. The Forest Supervisor's office of the Manti-La Sal National Forest is located at 599 West Price River Drive, Price, Utah 84501, phone: 435-637-2817.

Authority: The National Environmental Policy Act of 1969 (NEPA), as amended (42 U.S.C. 4321-4346); Council on Environmental Quality of Regulations, Title 40, Code of Federal Regulations, Parts 1500-1508 (40 CFR 1500-1508); and U.S. Department of Agriculture NEPA Regulations, Title 7, Code of Federal Regulations, Part 1b (7 CFR 1b).

Dated: March 23, 2001.
Elaine J. Zieroth,
Forest Supervisor, Manti-La Sal National Forest.

[FR Doc. 01-7728 Filed 3-28-01; 8:45 am]

BILLING CODE 3410-11-M